DEPARTMENT OF THE INTERIOR

Bureau of Land Management

[CO-200-1430-EQ]

Notice of Realty Action—Lake County

AGENCY: Bureau of Land Management, Department of Interior.

ACTION: Notice of Realty Action, Federal Land Policy and Management Act Section 302 Lease, in Lake County, Colorado.

SUMMARY: All public land within the City of Leadville, Colorado is available for lease under Section 302 of the Federal Land Policy and Management Act of 1976 as amended, and the regulations thereunder 43 CFR part 2920 for authorization of historic commercial or residential use. Owners of qualified improvements may make application and after analysis they may be offered a 20-year lease to allow continued Public land use. They will be required to pay an annual rental based on a fair market appraisal.

DATES: Interested parties may comment on this action on or before Jan. 5, 2001.

ADDRESSES: Field Office Manager, Bureau of Land Management, 3170 East Main St., Canon City, CO 81212.

FOR FURTHER INFORMATION CONTACT: David Hallock, BLM Realty Specialist, at the above address, e-mail dave_hallock@CO.BLM.gov, or phone: (719) 269-8536.

SUPPLEMENTARY INFORMATION: Typical qualified parcels are isolated remnants of Public land resulting from the patenting of mining claims (private land) that entirely surround the parcel. Additionally, the parcel is now overlapped by city lots and the parcel was developed prior to the Federal Land Policy and Management Act of 1976 and has been historically and unintentionally used for either commercial or residential purposes.

Levi D. Deike,
Field Office Manager, Royal Gorge Field Office.

[FR Doc. 00-30129 Filed 11-24-00; 8:45 am]

BILLING CODE 4310-JB-P